DEPARTMENT OF THE INTERIOR

National Park Service

[NPS-WASO-NAGPRA-NPS0035849; PPWOCRADN0-PCU00RP14.R50000]

Notice of Intent To Repatriate Cultural Items: The Filson Historical Society, Louisville, KY

AGENCY: National Park Service, Interior.

ACTION: Notice.

SUMMARY: In accordance with the Native American Graves Protection and Repatriation Act (NAGPRA), the Filson Historical Society intends to repatriate certain cultural items that meet the definition of unassociated funerary objects and that have a cultural affiliation with the Indian Tribes or Native Hawaiian organizations in this notice. The cultural items were removed from Fulton County, KY; Hickman County, KY; Lake County, TN; and Shelby County, TN.

DATES: Repatriation of the cultural items in this notice may occur on or after June 12, 2023.

ADDRESSES: Kelly Hyberger, The Filson Historical Society, 1310 South 3rd Street, Louisville, KY 40208, telephone (502) 635-5083, email khyberger@filsonhistorical.org.

SUPPLEMENTARY INFORMATION: This notice is published as part of the National Park Service's administrative responsibilities under NAGPRA. The determinations in this notice are the sole responsibility of the Filson Historical Society. The National Park Service is not responsible for the determinations in this notice. Additional information on the determinations in this notice, including the results of consultation, can be found in the summary or related records held by the Filson Historical Society.

Description

On an unknown date, five unassociated funerary objects were removed from Hickman County, KY. These objects were removed by Phil Porter, most likely from a Mississippian mound complex known as McLeod's Bluff. The Filson purchased these items from Ira Archer in 1933. The five unassociated funerary objects are three ceramic effigy bottles, one ceramic water bottle with a stopper, and one ceramic water bottle.

On an unknown date, nine unassociated funerary objects were removed from either Fulton County, KY, or Hickman County, KY. These objects were removed by Frank White, possibly from a Mississippian mound complex known as McLeod's Bluff. Filson records suggest that White and Phil Porter possibly worked in tandem to remove burial items from ceremonial and burial mounds. The Filson purchased these items from Ira Archer in 1933. The nine unassociated funerary objects are one stone plummet, one ceramic water bottle with incised curvilinear designs, three ceramic bowls, one ceramic water bottle, one ceramic bird effigy bowl, one plain ceramic bowl with loop-style handles, and one ceramic bowl with incised designs.

On an unknown date, one associated funerary object was removed from a burial mound on the shore of Reelfoot Lake in Lake County, TN. The object was removed by an unknown resident of Hornbeak, TN, identified in Filson records only as a local bank cashier. The Filson purchased this item from Ira Archer in 1933. The one unassociated funerary object is a ceramic bottle.

On an unknown date, one associated funerary object was removed by C.E. Hadley from a burial mound on the Mississippi River near Memphis in Shelby County, TN. The Filson purchased this item from Ira Archer in 1933. The one unassociated funerary object is a ceramic bowl.

On an unknown date, one associated funerary object was removed by C.C. Bacon from a mound on the Mississippi River near Memphis in Shelby County, TN. The Filson purchased this item from Ira Archer in 1933. The one unassociated funerary object is a carved shell mask.

Cultural Affiliation

The cultural items in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, and geographical information.

Determinations

Pursuant to NAGPRA and its implementing regulations, and after consultation with the appropriate Indian Tribes and Native Hawaiian organizations, the Filson Historical Society has determined that:

• The 17 cultural items described above are reasonably believed to have been placed with or near individual human remains at the time of death or later as part of the death rite or ceremony and are believed, by a preponderance of the evidence, to have been removed from a specific burial site of a Native American individual.

• There is a relationship of shared group identity that can be reasonably traced between the cultural items and The Chickasaw Nation.

Requests for Repatriation

Additional, written requests for repatriation of the cultural items in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 12, 2023. If competing requests for repatriation are received, the Filson Historical Society must determine the most appropriate requestor prior to repatriation. Requests for joint repatriation of the cultural items are considered a single request and not competing requests. The Filson Historical Society is responsible for sending a copy of this notice to the Indian Tribes identified in this notice.

Authority: Native American Graves Protection and Repatriation Act, 25 U.S.C. 3003, and the implementing regulations, 43 CFR 10.8, 10.10, and 10.14.

Dated: May 5, 2023.
Melanie O'Brien,
Manager, National NAGPRA Program.

[FR Doc. 2023-10033 Filed 5-10-23; 8:45 am]

BILLING CODE 4312-52-P